DEPARTMENT OF TRANSPORTATION

Federal Highway Administration

[Docket No. FHWA-2010-0061]

Agency Information Collection Activities: Request for Comments for a New Information Collection

AGENCY: Federal Highway Administration (FHWA), Department of Transportation.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by August 13, 2010.

ADDRESSES: You may submit comments identified by DOT Docket ID Number 2010-0061 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m., Monday through Friday, except Federal holidays.

FOR FURTHER INFORMATION CONTACT: Mr. Jesús M. Rohena, P.E., Office of Bridge Technology, HIBT-10, (202) 366-4593, or Mr. Robert Black, Office of Chief Counsel, HCC-30, (202) 366-1359, Federal Highway Administration, Department of Transportation, 1200 New Jersey Avenue, SE., Washington, DC 20590. Office hours are from 8:30 a.m. to 5 p.m., Monday through Friday, except Federal holidays.

SUPPLEMENTARY INFORMATION: Title: National Tunnel Inventory (NTI).

Background: After investigating the fatal July 2006 suspended ceiling collapse in the Central Artery Tunnel in Boston, Massachusetts, the National Transportation Safety Board (NTSB) stated in its report that, “had the Massachusetts Turnpike Authority, at regular intervals between November 2003 and July 2006, inspected the area above the suspended ceilings in the D Street portal tunnels, the anchor creep that led to this accident would likely have been detected, and action could have been taken that would have prevented this accident.” Among its recommendations, the NTSB suggested that the FHWA seek legislative authority to establish a mandatory tunnel inspection program similar to the National Bridge Inspections Standards (NBIS) that would identify critical inspection elements and specify an appropriate inspection frequency. Additionally, the DOT Inspector General (IG), in testimony before Congress in October 2007, highlighted the need for a tunnel inspection and reporting system to ensure the safety of the Nation's tunnels, stating that the FHWA “should develop and implement a system to ensure that States inspect and report on tunnel conditions.” Additionally, the IG stated that “FHWA should move aggressively on this rulemaking and establish rigorous inspection standards as soon as possible.”

In order to be responsive to recommendations from the NTSB and OIG, and to ensure public safety in Federal-aid highway tunnels, the FHWA feels that a regulation establishing uniform national tunnel inventory is necessary. Lack of mandatory standards also introduces the likelihood of non-uniformity in practices across the nation. As evidenced by recent scrutiny of the bridge inspection program by Congress, the public, media, and others, there is a strong desire to have some degree of national uniformity and consistency to ensure public trust and confidence in our highway system.

States should collect and report to FHWA the condition of their Federal-aid highway tunnels inventory. This will allow FHWA to be informed on the condition of tunnels in the nation and respond to Congress requests for this type of data.

The FHWA issued an Advance Notice of Proposed Rule Making (ANPRM) on November 18, 2008, (73 FR 68365), to solicit public comments regarding 14 categories of information related to tunnel inspections to help FHWA develop the National Tunnel Inspection Standards (NTIS). The FHWA received comments on the docket from 20 commenters, including: 9 State DOTs (Alaska, California, Massachusetts, Oregon, Ohio, Pennsylvania, New Jersey, Florida, and Washington); 1 metropolitan transit authority (Triborough Bridge and Tunnel Authority/Metropolitan Transit Authority Bridges and Tunnels (TBTA/MTA); 3 engineering consulting firms (United Technologies Corporation (UTC), Jacobs Associates, and PB Americas); 2 private citizens; and 4 organizations (American Society of Civil Engineers (ASCE), American Association of State Highway Transportation Officials (AASHTO), American Council of Engineering Companies (ACEC), and National Fire Protection Association (NFPA). Additionally, in a letter to Secretary LaHood, Congressman Joseph Capuano of Massachusetts expressed support for the development of NTIS. Commenters overwhelmingly supported the development of NTIS.

FHWA has prepared a Notice of Proposed Rule Making (NPRM) for the NTIS to address comments received to the ANPRM. The NPRM is being reviewed internally and FHWA intends to publish it soon.

A preliminary tunnel survey conducted in 2003 suggests that there are approximately 350 highway tunnels in the Nation, although no comprehensive national inventory for tunnels currently exists. The FHWA additionally estimates that tunnels represent nearly 100 linear miles, (approximately 517,000 linear feet) of Interstates, State routes, and local routes. Most of these tunnels range in age from 51 to 100 years, and some tunnels were constructed in the 1930s and 1940s. The FHWA anticipates that the NTIS would create a National Inventory of Tunnels (NTI) that would lead to a more accurate assessment of the number and condition of tunnels in the Nation.

The following is the data that will be collected under the NTI on a form FHWA is developing:

(1) Basic tunnel information. Tunnel name; tunnel number; owner; operator; tunnel location, including State, county, or political subdivision, route designation, Strategic Highway Network designation, portals milepost, portals latitude and longitude; year tunnel construction completed; traffic data, including posted speed, design speed, current average daily traffic, and percentage of truck traffic; and date of last inspection).

(2) Tunnel and roadway geometrics. Number of bores; total number of lanes; direction of traffic (e.g., uni-directional, bi-directional, variable); portal-to-portal tunnel length; maximum open tunnel height within travelway; minimum posted vertical clearance; minimum cross-sectional width; lane width(s); shoulder width(s); and pavement type.

(3) Interior tunnel structural features. Tunnel shape (e.g., circular, rectangular, horseshoe, oval); ground conditions (e.g., soft ground, soft rock, hard rock, mixed face); ceiling type (e.g., structural lining, integral box, suspended panel); finish lining type (e.g., tiles, metal panels, precast panels, masonry block, shotcrete or gunite, coating or paint); and primary tunnel support lining.

(4) Portal structural features. Portal types (e.g., cast-in place or precast concrete, stone masonry, bare rock); and portal shapes (e.g., circular, rectangular, horseshoe, oval).

(5) Preliminary assessment of tunnel condition.

Currently States are inspecting their tunnels but they are not required to report to FHWA their findings of those inspections. Therefore, FHWA feels that the additional burden on the States to report this data will be very minimal. The estimated burden on the States to collect, manage, and report this data is assumed to be 8 hours per tunnel for a total estimate of 2,808 hours for all 350 estimated tunnels in the Nation. This represents an average of 54 hours per responder.

Respondents: 50 States, District of Columbia, and Puerto Rico (52 total).

Frequency: Annually.

Estimated Average Burden per Response: Approximately 54 hours per participant.

Estimated Total Annual Burden Hours: Approximately 2,808.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: June 7, 2010.
Judith Kane,
Acting Chief, Management Programs and Analysis Division.

[FR Doc. 2010-14134 Filed 6-11-10; 8:45 am]

BILLING CODE 4910-22-P